DEPARTMENT OF ENERGY

Supplemental Environmental Impact Statement: Site Selection for the Expansion of the Strategic Petroleum Reserve

AGENCY: Department of Energy.

ACTION: Notice of additional public scoping meeting.

SUMMARY: On March 5, 2008, the Department of Energy (DOE) published a Notice of Intent in the Federal Register (73 FR 11895) to prepare a supplemental environmental impact statement (SEIS) to analyze the impacts of potential new locations for certain off site facilities associated with the proposed Strategic Petroleum Reserve expansion site at Richton, Mississippi. That Notice also announced that DOE will hold three meetings at which interested agencies, organizations, Native American tribes, and members of the public may submit comments or suggestions to assist in identifying alternatives, significant environmental issues, and the appropriate scope of the SEIS. DOE now announces that it will hold an additional public scoping meeting, in Perry County, Mississippi.

New Public Scoping Meeting: A public scoping meeting will be held at New Augusta, Mississippi, on April 7, 2008, 6 p.m. to 8 p.m., at Perry Central High School, 9899 Hwy. 98.

FOR FURTHER INFORMATION CONTACT: Donald Silawsky, Office of Petroleum Reserves (FE-47), U.S. Department of Energy, 1000 Independence Avenue, SW., Washington, DC 20585-0301. Mr. Silawsky may also be contacted by telephone at 202-586-1892, by facsimile at 202-586-4446, or by electronic mail at donald.silawsky@hq.doe.gov. Additional information may also be found on the DOE Fossil Energy Web site at http://www.fe.doe.gov.

Issued in Washington, DC, on March 19, 2008.
James A. Slutz,
Acting Principal Deputy Assistant Secretary, Office of Fossil Energy.

[FR Doc. 08-1064 Filed 3-19-08; 12:30 pm]

BILLING CODE 6450-01-P